DEPARTMENT OF THE INTERIOR

National Park Service

[NPS-WASO-NAGPRA-NPS0036489; PPWOCRADN0-PCU00RP14.R50000]

Notice of Intent To Repatriate Cultural Items: Autry Museum of the American West, Los Angeles, CA

AGENCY: National Park Service, Interior.

ACTION: Notice.

SUMMARY: In accordance with the Native American Graves Protection and Repatriation Act (NAGPRA), the Autry Museum of the American West intends to repatriate certain cultural items that meet the definition of unassociated funerary objects and a certain cultural item that meets the definition of a sacred object, and that have a cultural affiliation with the Indian Tribes or Native Hawaiian organizations in this notice. The cultural items were removed from San Luis Obispo County, CA.

DATES: Repatriation of the cultural items in this notice may occur on or after October 2, 2023.

ADDRESSES: Karimah Richardson, M.Phil., RPA, Associate Curator of Anthropology and Repatriation Supervisor, Autry Museum of the American West, 4700 Western Heritage Way, Los Angeles, CA 90027, telephone (323) 495-4203, email krichardson@theautry.org.

SUPPLEMENTARY INFORMATION: This notice is published as part of the National Park Service's administrative responsibilities under NAGPRA. The determinations in this notice are the sole responsibility of the Autry Museum of the American West. The National Park Service is not responsible for the determinations in this notice. Additional information on the determinations in this notice, including the results of consultation, can be found in the summary or related records held by the Autry Museum of the American West.

Description

In 1896, the Southwest Museum of the American Indian (now part of the Autry Museum of the American West) purchased a collection from the museum's first curator, Dr. Frank M. Palmer. Sometime between 1877 and 1896, Palmer collected cultural items from burials at multiple, unknown sites along the coast of San Luis Obispo County, CA. The coast of San Luis Obispo County is within the aboriginal territory of the Chumash and Salinan people. The Autry Museum does not have possession or control of any human remains associated with these items. Based on museum records, the Autry Museum has control of 1,510 unassociated funerary objects that Palmer removed from burials. Of this number, 1,476 have been located and 34 currently are missing. The 1,476 unassociated funerary objects are one basket water bottle lined with asphaltum, 10 bird bone beads, one bone tube with traces of asphaltum, one vegetal carved bowl (made from either wood, seed, or gourd), 58 brass and bronze buttons, one brass bell, one brass button, one brass hilt, two charms made from spiral fossils, one charm made from a concretion, one steatite gorget, one historic glass bottle, two chert knives, one neck of basket water bottle asphaltum lined, two cakes of red ochre, one wooden paint cup, one fish vertebral bone paint pot, two pestles, four shell beads made from scallops, one oyster shell spoon, one soap root brush, one steatite bowl, one pestle with ochre staining, one lot consisting of approximately 227 barrel-shaped Olivella and clamshell beads (some of them burned), and 1,379 glass beads. The 34 currently missing unassociated funerary objects are one arrow polisher, one basket bottom, one breast ornament, one burial mat, one carved wood, one charm, six cooking pots, one cooking stone, one disc, one doll body, one fishing line, one head dress, one historic bottle, one knife, one medicine stone, three mortars, two necklaces, one onyx pendant, one pendant, two pestles, two shell spoons, one spear head, one whistle, and one lot consisting of basketry fragments, beads, and bone beads.

In 1935, the Southwest Museum of the American Indian (now the Autry Museum of the American West) was gifted a cultural item by Mr. Clifford Park Baldwin, who worked for the Southwest Museum from 1933 to 1937, in various capacities. Sometime between 1911 and 1935, Mr. Baldwin collected the item from Morro Bay in San Luis Obispo County, CA. Morro Bay is within the aboriginal territory of the Chumash people and Salinan people. During consultation with tribal representatives from the Santa Ynez Band of Chumash Mission Indians of the Sant Ynez Reservation, California, the item was identified as an unassociated funerary object. The one unassociated funerary is a faunal bone hairpin.

In 1939, the Southwest Museum of the American Indian (now the Autry Museum of the American West) was gifted a cultural item by Mr. Willy Stahl, who worked for the Southwest Museum from 1937 to 1948. Mr. Stahl collected the item from Sandspit Beach, near Santa Maria in Santa Maria Valley, CA. Since 1965, the beach has been part of Montana de Oro State Park. Santa Maria Valley is within the aboriginal territory of the Chumash and Salinan people. During consultation with tribal representatives from the Santa Ynez Band of Chumash Mission Indians of the Sant Ynez Reservation, California, the item was identified as an unassociated funerary object. The one unassociated funerary is a faunal bone hairpin fragment.

In 1944, the Southwest Museum of the American Indian (now the Autry Museum of the American West) was gifted a cultural item by Mr. Franklin R. Johnston, an archeologist. Sometime between 1930 and 1944 (inclusive), Johnston collected the item, a small pestle, at his campsite on Pismo Beach, in San Luis Obispo County, CA. Pismo Beach is within the aboriginal territory of the Chumash and Salinan people. During consultation with tribal representatives from the Santa Ynez Band of Chumash Mission Indians of the Sant Ynez Reservation, California, the pestle was identified as a ceremonial object. The Chumash, as well as other southern Californian Indians within the area view small pestles like this one as sacred objects. The one sacred object is a pestle.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, oral traditional, and historical.

Determinations

Pursuant to NAGPRA and its implementing regulations, and after consultation with the appropriate Indian Tribes and Native Hawaiian organizations, the Autry Museum of the American West has determined that:

• The 1,512 cultural items described above are reasonably believed to have been placed with or near individual human remains at the time of death or later as part of the death rite or ceremony and are believed, by a preponderance of the evidence, to have been removed from a specific burial site of a Native American individual.

• The one cultural item described above is a specific ceremonial object needed by traditional Native American religious leaders for the practice of traditional Native American religions by their present-day adherents.

• There is a relationship of shared group identity that can be reasonably traced between the cultural items and the Santa Ynez Band of Chumash Mission Indians of the Sant Ynez Reservation, California.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after October 2, 2023. If competing requests for repatriation are received, the Autry Museum of the American West must determine the most appropriate requestor prior to repatriation. Requests for joint repatriation of the cultural items are considered a single request and not competing requests. The Autry Museum of the American West is responsible for sending a copy of this notice to the Indian Tribe identified in this notice.

Authority: Native American Graves Protection and Repatriation Act, 25 U.S.C. 3003, and the implementing regulations, 43 CFR 10.8, 10.10, and 10.14.

Dated: August 23, 2023.
Melanie O'Brien,
Manager, National NAGPRA Program.

[FR Doc. 2023-18818 Filed 8-30-23; 8:45 am]

BILLING CODE 4312-52-P